DEPARTMENT OF ENERGY

Federal Energy Regulatory Commission

Combined Notice of Filings #1

Take notice that the Commission received the following electric rate filings:

Docket Numbers: ER20-2647-001.

Applicants: Morgantown Steam, LLC.

Description: Tariff Amendment: Response to Commission Staff Request for Information to be effective 8/4/2020.

Filed Date: 11/4/20.

Accession Number: 20201104-5065.

Comments Due: 5 p.m. ET 11/25/20.

Docket Numbers: ER21-314-000.

Applicants: PJM Interconnection, L.L.C.

Description: § 205(d) Rate Filing: Cost Responsibility Agreement, SA No. 5840; Non-Queue No. NQ166 to be effective 10/21/2020.

Filed Date: 11/4/20.

Accession Number: 20201104-5045.

Comments Due: 5 p.m. ET 11/25/20.

Docket Numbers: ER21-315-000.

Applicants: Public Service Company of Colorado.

Description: § 205(d) Rate Filing: 2020-11-04-NSPM-OTP-CAPX-BSSB-Rev TCEA-596-0.1.0-Filing to be effective 1/4/2021.

Filed Date: 11/4/20.

Accession Number: 20201104-5067

Comments Due: 5 p.m. ET 11/25/20.

Docket Numbers: ER21-316-000.

Applicants: PJM Interconnection, L.L.C.

Description: § 205(d) Rate Filing: Original WMPA SA No. 5844; Queue No. AF1-299 to be effective 10/5/2020.

Filed Date: 11/4/20.

Accession Number: 20201104-5073.

Comments Due: 5 p.m. ET 11/25/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2020.
Nathaniel J. Davis, Sr.,
Deputy Secretary.

[FR Doc. 2020-24930 Filed 11-9-20; 8:45 am]

BILLING CODE 6717-01-P